DEPARTMENT OF VETERANS AFFAIRS

Notice of Department of Veterans Affairs Implementation of Law Concerning Changes to Policies and Guidance Affecting the Educational Assistance Programs of the Department

AGENCY: Department of Veterans Affairs.

ACTION: Notice of Changes to Department of Veterans Affairs Policies and Guidance Affecting the Educational Assistance Programs of the Department.

SUMMARY: The Department of Veterans Affairs (VA) is informing the public of efforts to implement Section 213 of the Senator Elizabeth Dole 21st Century Veterans Healthcare and Benefits Improvements Act (Dole Act), which requires VA to make notice and justification for changes in policy and guidance available to students, educational institutions, and the Committees on Veterans' Affairs of the Senate and House of Representatives.

FOR FURTHER INFORMATION CONTACT: Thomas Alphonso, Veterans Benefits Administration, (202) 461-9800.

SUPPLEMENTARY INFORMATION: On January 2, 2025, the “Senator Elizabeth Dole 21st Century Veterans Healthcare and Benefits Improvements Act” was signed into law. Section 213 of the Act, “Notice of changes to Department of Veterans Affairs policies and guidance affecting the educational assistance programs of the Department,” amends subchapter III of chapter 36 of title 38, United States Code, by adding a new section 3699D, “Notice of changes to policies and guidance relating to educational assistance programs”.

This new section prohibits VA from implementing any changes in policy or guidance that relates to any VA educational assistance program, before a date 90 days after the date on which VA makes available to students, educational institutions, and the Committees on Veterans' Affairs of the Senate and House of Representatives notice of and justification for the change.

This Federal Register Notice serves as a public notification of how VA will comply with the requirements of this law:

(1) VA will post policy and guidance changes covered by this law including justification to a publicly facing website located at www.benefits.va.gov/gibill/policy-change-notice.asp.

(2) VA will notify the statutorily mandated stakeholders, students, educational institutions, and the Committees on Veterans' Affairs of the Senate and House of Representatives, that a policy or guidance change covered by this law has been posted on the aforementioned website via previously established routes, such as email and include a brief summary of the change.

(3) VA will wait at least 90 days after notification of any changes to policy or guidance covered by section 213 of the “Senator Elizabeth Dole 21st Century Veterans Healthcare and Benefits Improvements Act” to implement the specified change.

What is a change in policy or guidance?

VA will make 90-day notice and justification available to students, educational institutions, and the Committees on Veterans' Affairs of the Senate and House of Representatives, guidance that meets the following criteria:

(1) It does not already exist in regulation, policy, procedure, or other form of guidance,

(2) It sets forth official VA position on a statutory, regulatory, or technical issue, and

(3) It exercises VA's discretionary policy and decision-making authority to “fill-in a gap” of statutory language, or

(4) It directly impacts students or schools.

(Authority: 38 U.S.C. 501; 38 U.S.C. 3699D.)

Signing Authority

Douglas A. Collins, Secretary of Veterans Affairs, approved and signed this document on June 25, 2025, and authorized the undersigned to sign and submit the document to the Office of the Federal Register for publication electronically as an official document of the Department of Veterans Affairs.

Taylor N. Mattson,
Alternate Federal Register Liaison Officer, Department of Veterans Affairs.

[FR Doc. 2025-12004 Filed 6-27-25; 8:45 am]

BILLING CODE 8320-01-P